DEPARTMENT OF COMMERCE

National Oceanic and Atmospheric Administration

RIN 0648-XF432

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's (Council) Mackerel-Squid-Butterfish (MSB) Advisory Panel will meet via webinar to develop recommendations regarding the Council's Squid Amendment.

DATES: The meeting will be held Friday, June 2, 2017, from 9 a.m. to 1 p.m.

ADDRESSES: The meeting will be held via webinar with a telephone-only connection option: http://mafmc.adobeconnect.com/msb-ap-2017/.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org will also have details on webinar access and any background materials.

SUPPLEMENTARY INFORMATION: The Council's Mackerel-Squid-Butterfish (MSB) Advisory Panel will meet to develop recommendations regarding the Council's Squid Amendment. This Amendment could reduce the number of directed longfin squid/butterfish and Illex squid moratorium (limited access) permits. This Amendment also considers modifications to the seasonal/Trimester allocations and related management measures. The Council's plans to take final action on the Amendment at its June 2017 Council meeting (http://www.mafmc.org/council-events/2017/june-2017-council-meeting).

Special Accommodations

This meeting is physically accessible to people with disabilities. Requests for sign language interpretation or other auxiliary aid should be directed to M. Jan Saunders, (302) 526-5251, at least 5 days prior to the meeting date.

Dated: May 10, 2017.
Tracey L. Thompson,
Acting Deputy Director, Office of Sustainable Fisheries, National Marine Fisheries Service.

[FR Doc. 2017-09752 Filed 5-12-17; 8:45 am]

BILLING CODE 3510-22-P